NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 24, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant: Allyson Comstock, Opelika, AL. Permit Application: 2014-019

Activity for Which Permit is Requested:

ASPA Entry and Take (salvage); The applicant is an artist funded by the National Science Foundation's Antarctic Artist & Writer's program. The applicant is seeking a permit to be able to enter ASPA 149 Cape Shirreff to take photos to inspire future artwork. If approved, the applicant would be accompanied in by experienced field staff who are familiar with the environmental sensitivities of the Area and would ensure that the applicant acts in accordance with the management plan for the Area.

The applicant also seeks permission to salvage shed bird feathers while at Cape Shirreff ASPA 149. The salvaged feathers would be used as reference materials for drawings that would be publicly displayed. All materials collected would be salvaged; the applicant would not interact with live animals to collect feathers.

None of the activities described above would disturb native birds and mammals

Location: ASPA 149 Cape Shirreff

Dates: October 26, 2013 to December 20, 2013

Nadene G. Kennedy,
Polar Coordination Specialist, Division of Polar Programs.

[FR Doc. 2013-23177 Filed 9-23-13; 8:45 am]

BILLING CODE 7555-01-P